DEPARTMENT OF HEALTH AND HUMAN SERVICES

Administration for Children and Families

[Assistance Listing Number: 93.652]

Announcement of the Intent To Award a Within Scope Awarding Agency-Initiated Non-Competitive Supplement With Extension to the American Public Human Services Association for the Association of Administrators of the Interstate Compact on the Placement of Children (AAICPC) in Washington, DC

AGENCY: Children's Bureau (CB), Administration for Children and Families (ACF), Department of Health and Human Services (HHS).

ACTION: Notice of Issuance of a within scope awarding agency-initiated non-competitive supplement with extension.

SUMMARY: The ACF, ACYF, CB, Division of Capacity Building announces the intent to award a within scope awarding agency-initiated non-competitive supplement with extension in the amount of up to $1,600,000, to the American Public Human Services Association for its affiliate the Association of Administrators of the Interstate Compact on the Placement of Children (AAICPC) in Washington, DC, for the further implementation and support nationally of the National Electronic Interstate Compact Enterprise (NEICE) system. The NEICE is an inter-jurisdictional electronic system to improve administrative efficiency in implementing the Interstate Compact on the Placement of Children (ICPC), a process that ensures safe and suitable interstate placements for children in foster care.

DATES: The proposed period of performance is September 30, 2024, through September 29, 2025.

FOR FURTHER INFORMATION CONTACT: June Dorn, National Adoption Specialist, Children's Bureau, Division of Capacity Building, 330 C St. SW, Suite 3521B, Washington, DC 20201. Telephone: (202) 205-9240; Email: June.Dorn@acf.hhs.gov.

SUPPLEMENTARY INFORMATION: Award funds will support the continued implementation, support, and scale up of the NEICE. The NEICE is a national electronic system for quickly and securely exchanging the data and documents required by the Interstate Compact on the Placement of Children (ICPC) to place children with foster, adoptive, and kinship families across state lines. APHSA has been the recipient of funding from the ACYF/CB for the development and national implementation of the NEICE since its inception as a pilot project funded by the Partnership Fund for Program Integrity Innovation at the Office of Management and Budget and administered by CB in November 2013. This 20-month pilot proved successful and led to a new sole source cooperative agreement for the expansion of the pilot to all 52 jurisdictions of the AAICPC nationwide. This funding was further extended and supplemented to continue to support the expansion of the project nationally with the current funding period expiring September 29, 2024. This within scope awarding agency-initiated non-competitive supplement with extension is essential to allow the remaining states to join the system and to provide ongoing support and upgrades necessary for an electronic system. In addition, the Family First Prevention Services Act of 2018 requires all states to join an electronic exchange system by October 1, 2027, and NEICE is on track to support states in meeting this requirement.

It is CB's intention to provide funding of up to $1,600,000 beginning September 30, 2024. The state members of the AAICPC contribute annual membership and connection fees; however, these are currently not adequate to meet the full operational costs of managing the national system. The APHSA is well-positioned to continue to scale the project nationally and to assure the continued optimal maintenance of the NEICE.

Statutory Authority: Title II, section 203(b) of the Child Abuse Prevention and Treatment and Adoption Reform Act of 1978 (42 U.S.C. 5113(b)(3)), as most recently amended by CAPTA Reauthorization Act of 2010.

Anthony Petruccelli,
Senior Grants Policy Specialist, Office of Grants Policy, Office of Administration.

[FR Doc. 2024-20827 Filed 9-12-24; 8:45 am]

BILLING CODE 4184-44-P